DEPARTMENT OF ENERGY

Federal Energy Regulatory Commission

Combined Notice of Filings #2

Take notice that the Commission received the following electric rate filings:

Docket Numbers: ER11-2909-000.

Applicants: Atlantic Path 15, LLC.

Description: eTariff filing per 35.19a(b): EL11-29-004 and ER12-1224-001 to be effective N/A.

Filed Date: 1/22/15.

Accession Number: 20150122-5065.

Comments Due: 5 p.m. ET 2/12/15.

Docket Numbers: ER14-2658-002.

Applicants: NV Energy, Inc.

Description: Compliance filing per 35: OATT Order No. 792 Compliance Filing—Revision to Attachment O to be effective 8/4/2014.

Filed Date: 1/22/15.

Accession Number: 20150122-5127.

Comments Due: 5 p.m. ET 2/12/15.

Docket Numbers: ER15-745-000.

Applicants: AM Commodities Corporation.

Description: Amendment to December 29, 2014 AM Commodities Corporation tariff filing.

Filed Date: 1/22/15.

Accession Number: 20150122-5134.

Comments Due: 5 p.m. ET 2/2/15.

Docket Numbers: ER15-890-000.

Applicants: Twin Cities Power, LLC.

Description: Tariff Withdrawal per 35.15: Notice of Cancellation to be effective 3/23/2015.

Filed Date: 1/22/15.

Accession Number: 20150122-5076.

Comments Due: 5 p.m. ET 2/12/15.

Docket Numbers: ER15-891-000.

Applicants: PJM Interconnection, L.L.C.

Description: § 205(d) rate filing per 35.13(a)(2)(iii): Service Agreement No. 4078; Queue No. Z1-113 to be effective 12/23/2014.

Filed Date: 1/22/15.

Accession Number: 20150122-5077.

Comments Due: 5 p.m. ET 2/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2015.
Nathaniel J. Davis, Sr.,
Deputy Secretary.

[FR Doc. 2015-01650 Filed 1-28-15; 8:45 am]

BILLING CODE 6717-01-P